DEPARTMENT OF HOMELAND SECURITY

Federal Emergency Management Agency

[Docket ID FEMA-2015-0001; Internal Agency Docket No. FEMA-B-1534]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: August 28, 2015.
Roy E. Wright,
Deputy Associate Administrator for Insurance and Mitigation, Department of Homeland Security, Federal Emergency Management Agency.

State and county | Location and case No. | Chief executive officer of community | Community map repository | Online location of letter of map revision | Effective date of modification | Community No.
Alabama:
Tuscaloosa | City of Tuscaloosa (15-04-0628P) | The Honorable Walter Maddox, Mayor, City of Tuscaloosa, 2201 University Boulevard, Tuscaloosa, AL 35401 | Engineering Department, 2201 University Boulevard, Tuscaloosa, AL 35401 | http://www.msc.fema.gov/lomc. | Oct. 23, 2015 | 010203
Tuscaloosa | City of Tuscaloosa (15-04-4630P) | The Honorable William P. Kenoi, Mayor, County of Hawaii, 25 Aupuni Street, Hilo, HI 96720 | Engineering Department, 2201 University Boulevard, Tuscaloosa, AL 35401 | http://www.msc.fema.gov/lomc. | Oct. 21, 2015 | 155166
Tuscaloosa | Unincorporated areas of Tuscaloosa County (15-04-0628P) | The Honorable W. Hardy Mccollum, Chairman, Tuscaloosa County Board of Commissioners, 714 Greensboro Avenue, Tuscaloosa, AL 35402 | Tuscaloosa County Engineering Department, 2810 35th Street, Tuscaloosa, AL 35401 | http://www.msc.fema.gov/lomc. | Oct. 23, 2015 | 010201
Colorado:
Jefferson | City of Golden (15-08-0786P) | The Honorable Marjorie Sloan, Mayor, City of Golden, 911 10th Street, Golden, CO 80401 | Public Works Department, 1445 10th Street, Golden, CO 80401 | http://www.msc.fema.gov/lomc. | Oct. 23, 2015 | 080090
Teller | City of Woodland Park (15-08-0099P) | The Honorable Neil Levy, Mayor, City of Woodland Park, P.O. Box 9007, Woodland Park, CO 80866 | City Hall, 220 West South Avenue, Woodland Park, CO 80866 | http://www.msc.fema.gov/lomc. | Oct. 22, 2015 | 080175
Montana:
Gallatin | City of Bozeman (15-08-0124P) | The Honorable Jeff Krauss, Mayor, City of Bozeman, P.O. Box 1230, Bozeman, MT 59771 | Public Works Department, 20 East Olive Street, Bozeman, MT 59771 | http://www.msc.fema.gov/lomc. | Oct. 23, 2015 | 300028
Stillwater | Town of Columbus (15-08-0781P) | The Honorable Gary Woltermann, Mayor, Town of Columbus, P.O. Box 549, Columbus, MT 59019 | Stillwater County West Annex, 431 Quarry Road, Columbus, MT 59019 | http://www.msc.fema.gov/lomc. | Oct. 19, 2015 | 300109
North Carolina:
Randolph | Unincorporated areas of Randolph County (15-04-3243P) | The Honorable Darrell L. Frye, Chairman, Randolph County Board of Commissioners, P.O. Box 4728, Asheboro, NC 27204 | Randolph County Department of Planning and Development, 204 East Academy Street, Asheboro, NC 27203 | http://www.msc.fema.gov/lomc. | Oct. 22, 2015 | 370195
North Dakota:
Cass | City of Fargo (15-08-0016P) | The Honorable Tim Mahoney, Mayor, City of Fargo, 200 3rd Street North, Fargo, ND 58102 | City Hall, 200 3rd Street North, Fargo, ND 58102 | http://www.msc.fema.gov/lomc. | Nov. 3, 2015 | 385364
Texas:
Bell | City of Temple (15-06-1800P) | The Honorable Danny Dunn, Mayor, City of Temple, 2 North Main Street, Suite 103, Temple, TX 76501 | Department of Public Works, Engineering Division, 3210 East Avenue H, Building A, Suite 107, Temple, TX 76501 | http://www.msc.fema.gov/lomc. | Nov. 3, 2015 | 480034
Bexar | City of San Antonio (14-06-3172P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc. | Oct. 15, 2015 | 480045
Denton | City of Denton (14-06-3408P) | The Honorable Chris A. Watts, Mayor, City of Denton, 215 East McKinney Street, Denton, TX 76201 | Engineering Department, 901-A Texas Street, Denton, TX 76509 | http://www.msc.fema.gov/lomc. | Nov. 4, 2015 | 480194
Denton | City of Denton (15-06-0979P) | The Honorable Chris A. Watts, Mayor, City of Denton, 215 East McKinney Street, Denton, TX 76201 | Engineering Department, 901-A Texas Street, Denton, TX 76509 | http://www.msc.fema.gov/lomc. | Oct. 19, 2015 | 480194
Harris | City of Houston (14-06-4559P) | The Honorable Annise D. Parker, Mayor, City of Houston, P.O. Box 1562, Houston, TX 77251 | Floodplain Management Office, 1002 Washington Avenue, 3rd Floor, Houston, TX 77002 | http://www.msc.fema.gov/lomc. | Oct. 16, 2015 | 480296
Harris | City of Pasadena (14-06-4559P) | The Honorable Johnny Isbell, Mayor, City of Pasadena, 1211 Southmore Avenue, Pasadena, TX 77502 | Engineering Department, 1114 Davis Street, 2nd Floor, Pasadena, TX 77506 | http://www.msc.fema.gov/lomc. | Oct. 16, 2015 | 480307
Harris | Unincorporated areas of Harris County (15-06-1289P) | The Honorable Ed M. Emmett, Harris County Judge, 1001 Preston Street, Suite 911, Houston, TX 77002 | Harris County Permit Office, 10555 Northwest Freeway, Suite 120, Houston, TX 77092 | http://www.msc.fema.gov/lomc. | Oct. 30, 2015 | 480287
Hunt | City of Greenville (14-06-4302P) | The Honorable Steve Reid, Mayor, City of Greenville, P.O. Box 1049, Greenville, TX 75403 | Public Works Department, 2315 Johnson Street, Greenville, TX 75401 | http://www.msc.fema.gov/lomc. | Jul. 8, 2015 | 485473
Tarrant | City of Fort Worth (14-06-4046P) | The Honorable Betsy Price, Mayor, City of Fort Worth, 1000 Throckmorton Street, Fort Worth, TX 76102 | City Hall, 1000 Throckmorton Street, Fort Worth, TX 76102 | http://www.msc.fema.gov/lomc. | Sep. 15, 2015 | 480596
Tarrant | City of Fort Worth (15-06-0295P) | The Honorable Betsy Price, Mayor, City of Fort Worth, 1000 Throckmorton Street, Fort Worth, TX 76102 | City Hall, 1000 Throckmorton Street, Fort Worth, TX 76102 | http://www.msc.fema.gov/lomc. | Aug. 25, 2015 | 480596
Travis | Unincorporated areas of Travis County (15-06-1733P) | The Honorable Sarah Eckhardt, Travis County Judge, P.O. Box 1748, Austin, TX 78767 | Travis County Office of Emergency Management Services, 5010 Old Manor Road, Austin TX 78723 | http://www.msc.fema.gov/lomc. | Oct. 28, 2015 | 481026
Virginia:
Independent City | City of Salem (14-03-3079P) | The Honorable Byron Foley, Mayor, City of Salem, 114 North Broad Street, Salem, VA 24153 | Engineering and Inspections Department, 25 East Main Street, Salem, VA 24153 | http://www.msc.fema.gov/lomc. | Oct. 9, 2015 | 510141

[FR Doc. 2015-26375 Filed 10-15-15; 8:45 am]

BILLING CODE 9110-12-P